DEPARTMENT OF JUSTICE

Notice of Lodging of Consent Decree Under the Clean Water Act, Clean Air Act, and Resource Conservation and Recovery Act

Notice is hereby given that on January 15, 2003, a proposed Consent Decree in United States v. Koppers Industries, Inc., Civil Action No. CV-03-C-0097S, was lodged with the United States District Court for the Northern District of Alabama.

In this action the United States sought civil penalties and injunctive relief for numerous violations of the Clean Water Act at Koppers facilities throughout the United States. The United States also sought civil penalties for violations of the Clean Air Act and the Resource Conservation and Recovery Act occurring at a Koppers' facility in Woodward, Alabama. The alleged violations include Koppers' failure to submit reports and comply with discharge limits required by Clean Water Act permits; Koppers' failure to operate a gas blanketing system at storage tanks in the Woodward facility; and Koppers' use of a crushed tank to store used oil at the Woodward facility. This Woodward facility closed in 1998. In settlement of these allegations, Koppers agrees to pay a $2.9 million civil penalty (plus interest) over three years, and to implement an environmental management system and auditing program at facilities throughout the United States.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Koppers Industries, Inc., D.J. Ref. 90-5-2-1-06126.

The Consent Decree may be examined at the Office of the United States Attorney, 200 Robert S. Vance Federal Building, 1800 5th Avenue North, Room 200, Birmingham, Alabama, and at U.S. EPA Region 4, Atlanta Federal Center, 61 Forsyth Street, Atlanta, Georgia. A copy of the Consent Decree may also be obtained by mail from the Consent Decree Library, P.O. Box 7611, U.S. Department of Justice, Washington, DC 20044-7611. In requesting a copy, please enclose a check in the amount of $29.25 (25 cents per page reproduction cost) payable to the U.S. Treasury.

Ellen Mahan,
Assistant Chief, Environmental Enforcement Section, Environment and Natural Resources Division.

[FR Doc. 03-1814 Filed 1-27-03; 8:45 am]

BILLING CODE 4410-15-M